DEPARTMENT OF LABOR

Employment and Training Administration

[TA-W-57,517]

Dan River, Inc., Danville, VA; Notice of Termination of Investigation

Pursuant to section 221 of the Trade Act of 1974, as amended, an investigation was initiated on July 7, 2005, in response to a worker petition filed on behalf of workers at Dan River, Inc., Danville, Virginia.

The petitioning group of workers is covered by an active certification, (TA-W-52,427) which expires on August 20, 2005. Consequently, further investigation in this case would serve no purpose, and the investigation has been terminated.

Signed at Washington, DC this 21st day of July, 2005.
Elliott S. Kushner,
Certifying Officer, Division of Trade Adjustment Assistance.

[FR Doc. E5-4296 Filed 8-8-05; 8:45 am]

BILLING CODE 4510-30-P